DEPARTMENT OF TRANSPORTATION

Federal Aviation Administration

Notice of Passenger Facility Charge (PFC) Approvals and Disapprovals

AGENCY: Federal Aviation Administration (FAA), DOT.

ACTION: Monthly Notice of the PFC Approvals and Disapprovals. In May 2001, there were five applications approved. Additionally, eight approved amendments to previously approved applications are listed.

SUMMARY: The FAA publishes a monthly notice, as appropriate, of PFC approvals and disapprovals under the provisions of the Aviation Safety and Capacity Expansions Act of 1990 (Title IX of the Omnibus Budget Reconciliation Act of 1990) (Pub. L. 101-508) and Part 158 of the Federal Aviation Regulations (14 CFR Part 158). This notice is published pursuant to paragraph d of § 158.29.

PFC Applications Approved

1. Public Agency: County of Alpena, Alpena, Michigan.

Application Number: 01-01-C-00-APN.

Application Type: Impose and use a PFC.

PFC Level: $3.00.

Total PFC Revenue Approved in This Decision: $268,480.

Earliest Charge Effective Date: August 1, 2001.

Estimated Charge Expiration Date: November 1, 2009.

Class of Air Carriers Not Required To Collect PFC's: None.

Brief Description of Projects Approved for Collection and Use:

Taxiway hold line signs and radio control

Runway 19 precision approach path indicator and runway end identifier lights

Groove and mark runway 1/19

Rehabilitate runway 7/25 and medium intensity runway lighting

New field lighting and air traffic control tower electrical modifications

Runway/taxiway signage and marking

Rehabilitate and expand terminal apron

Deer control fencing

Rehabilitate high intensity runway lights, runway 1/19, taxiway lights, and reconstruct taxiway D (engineering only)

Rehabilitate high intensity runway lights, runway 1/19, and taxiway lights

Reconstruct taxiway D

Surface treatment, runway 1/19, with paved shoulders, bituminous overlay of taxiways H and C, alert taxiway, and holding apron (engineering only)

Surface treat, runway 1/19, with paved shoulders; bituminous overlay of taxiways H and C, alter taxiway, and holding aprons

Decision Date: May 8, 2001.

For Further Information Contact: Jon Gilbert, Detroit Airports District Office, (734) 487-7281.

2. Public Agency: Texas A&M University, College Station, Texas.

Application Number: 01-04-C-00-CLL.

Application Type: Impose and use a PFC.

PFC Level: $4.50.

Total PFC Revenue Approved in This Decision: $1,174,445.

Earliest Charge Effective Date: September 1, 2002.

Estimated Charge Expiration Date: November 1, 2005.

Class of Air Carriers Not Required To Collect PFC's: None.

Brief Description of Projects Approved for Collection and Use:

Acquire two loading bridges

Extend taxiway H

Conduct master plan study

Security and access improvements

PFC administrative costs

Decision Date: May 11, 2001.

For Further Information Contact: G. Thomas Wade, Southwest Region Airports Division, (817) 222-5613.

3. Public Agency: Capital Region Airport Commission, Richmond, Virginia.

Application Number: 01-04-C-00-RIC.

Application Type: Impose and use a PFC.

PFC Level: $3.00.

Total PFC Revenue Approved in This Decision: $4,570,342.

Earliest Charge Effective Date: July 1, 2015.

Estimated Charge Expiration Date: November 1, 2016.

Class of Air Carriers Not Required To Collect PFC's: Part 135 on-demand air taxi/commercial operators.

Determination: Approved. Based on information contained in the public agency's application, the FAA has determined that the proposed class accounts for less than 1 percent of the total annual enplanements at Richmond International Airport.

Brief Description of Projects Approved for Collection and Use:

Expand concourse C and apron

Extend taxiway U

Repair/replace storm drain system runway 2/20

Fluid collection, treatment, and recovery system

Refurbish existing concourse and terminal

Decision Date: May 17, 2001.

For Further Information Contact: Arthur Winder, Washington Airports District Office, (703) 661-1363.

4. Public Agency: Bert Mooney Airport Authority, Butte, Montana.

Application Number: 01-05-C-00-BTM.

Application Type: Impose and use a PFC.

PFC Level: $3.00.

Total PFC Revenue Approved in This Decision: $185,280.

Earliest Charge Effective Date: August 1, 2004.

Estimated Charge Expiration Date: January 1, 2006.

Class of Air Carriers Not Required To Collect PFC's: On-demand non-scheduled air taxi/commercial operators.

Determination: Approved. Based on information contained in the public agency's application, the FAA has determined that the proposed class accounts for less than 1 percent of the total annual enplanements at Bert Mooney Airport.

Brief Description of Projects Approved for Collection and Use:

Acquire snow removal equipment

Install security fence segment

Acquire passenger access lift

Pavement condition index survey, phase 3

Rehabilitate a portion of taxiway C and a portion of taxiway D

Install distance-to-go signs and runway end identifier lights on runway 11/29

Brief Description of Project Approved in Part for Collection and Use:

Airport vehicle radio replacement program.

Determination: Partially approved. A portion of this project is Airport Improvement Program (AIP) eligible in accordance with paragraph 560 of FAA Order 5100.38A, AIP Handbook (October 24, 1989). However, that eligibility is limited to vehicles which are AIP eligible, specifically aircraft rescue and firefighting and snow removal equipment vehicles. In addition to the eligible vehicles, the public agency proposed to install radios in maintenance vehicles that are not AIP eligible. Consequently, the installation of radios in maintenance vehicles is not PFC eligible.

Decision Date: May 22, 2001.

For Further Information Contact: David P. Gabbert, Helena Airports District Office, (406) 449-5271.

5. Public Agency: City and Bureau of Juneau, Juneau, Alaska.

Application Number: 01-03-C-00-JNU.

Application Type: Impose and use a PFC.

PFC Level: $4.50.

Total PFC Revenue Approved in This Decision: $310,551.

Earliest Charge Effective Date: August 1, 2001.

Estimated Charge Expiration Date December 1, 2001.

Class of Air Carriers Not Required To Collect PFC's: None.

Brief Description of Projects Approved for Collection and Use: Runway safety area expansion, phase I. Runway safety area Environmental Impact Statement. Recovery of PFC administrative costs. Terminal roof and exterior wall rehabilitation. Acquire aircraft rescue and firefighting vehicle. Acquire land for noise compatibility within 65 day-night average sound level.

Decision Date: May 30, 2001.

For Further Information Contact: Debbie Roth, Alaska Region Airports Division, (907) 271-5443.

Amendments to PFC Approvals

Amendment No., city, state | Amendment approved date | Original approved net PFC revenue | Amended approved net PFC revenue | Original estimated charge exp. date | Amended estimated charge exp. date
96-02-C-01-BOI Boise, ID | 05/04/01 | $9,646,0900 | $11,274,478 | 10/01/00 | 08/01/01
*98-01-C-01-KTN Ketchikan, AK | 05/11/01 | 6,419,400 | 6,644,400 | 02/01/18 | 04/01/18
*99-03-C-01-BOI Boise, ID | 05/14/01 | 75,631,748 | 75,631,748 | 08/01/16 | 04/01/13
*96-01-C-01-MYR Myrtle Beach, SC | 05/29/01 | 13,819,500 | 13,819,500 | 07/01/05 | 05/01/03
*97-02-C-01-MYR Myrtle Beach, SC | 05/29/01 | 14,121,635 | 14,121,635 | 07/01/10 | 01/01/08
*97-01-C-01-DHN Dothan, AL | 05/30/01 | 5,515,948 | 5,515,948 | 12/01/28 | 12/01/20
96-02-C-01-OTH North Bend, OR | 05/31/01 | 68,731 | 96,916 | 04/01/99 | 12/01/99
*99-04-C-01-OTH North Bend, OR | 05/31/01 | 103,610 | 164,500 | 12/01/03 | 05/01/03
(Note: The amendment denoted by an asterisk(*) include a change to the PFC level charged from $3.00 per enplaned passenger to $4.50 per enplaned passenger. For Ketchikan, AK, Boise, ID, Myrtle Beach, SC, Dothan, AL, and North Bend, OR, this change is effective on August 1, 2001.)

Issued in Washington, DC, on June 14, 2001.
Eric Gabler,
Manager, Passenger Facility Charge Branch.

[FR Doc. 01-15492 Filed 6-19-01; 8:45 am]

BILLING CODE 4910-13-M